DEPARTMENT OF ENERGY

Federal Energy Regulatory Commission

[Docket No. CP04-60-000]

Tennessee Gas Pipeline Company; Notice of Site Visit

June 15, 2004.

On Tuesday, June 22, 2004, the staff of the Federal Energy Regulatory Commission (FERC) will conduct a site visit of Tennessee Gas Pipeline Company's (Tennessee) proposed Tewksbury-Andover Lateral Project located near the town of Tewksbury, Massachusetts. We will meet at 9:30 a.m. (e.s.t.) at the Tewksbury-Andover Holiday Inn, 4 Highwood Drive, Tewksbury, Massachusetts. Interested persons may attend, but must provide their own transportation.

For additional information about the site visit, please contact the FERC's Office of External Affairs at 1-866-208-3372.

Magalie R. Salas,
Secretary.

[FR Doc. E4-1387 Filed 6-22-04; 8:45 am]

BILLING CODE 6717-01-P